GENERAL SERVICES ADMINISTRATION

[OMB Control No. 3090-0308; Docket No. 2025-0001; Sequence No. 13]

Submission for OMB Review; General Services Administration Acquisition Regulation; Construction-Manager-as-Constructor Contracting

AGENCY: Office of Acquisition Policy, General Services Administration (GSA).

ACTION: Notice; request for comments.

SUMMARY: In accordance with the Paperwork Reduction Act of 1995, and the Office of Management and Budget (OMB) regulations, GSA invites the public to comment on an extension of a previously approved information collection requirement regarding OMB Control No. 3090-0308, Construction-Manager-as-Constructor Contracting.

DATES: Submit comments on or before August 25, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Amy Lara, 816-589-3783, General Services Acquisition Policy Division, by email at gsarpolicy@gsa.gov.

SUPPLEMENTARY INFORMATION:

A. Purpose

The information collected is used by PBS to evaluate construction-related actions for approval of the contracting officer as required by the contract. As this information is still currently required, GSA seeks to have this information collection extended for three years.

B. Annual Reporting Burden

Public reporting burden for GSAR 552.236-72, Submittals, is estimated to average .50 hours per response, including the time for reviewing instructions, searching existing data sources, gathering and maintaining the data needed, and completing and reviewing the collection of information.

The annual reporting burden is estimated as follows:

Respondents: 995.

Responses per respondent: 5.

Total annual responses: 4,975.

Preparation hours per response: .50.

Total response burden hours: 2,488.

C. Public Comments

A 60-day notice was published in the Federal Register at 90 FR 21931, on May 22, 2025. No comments were received.

Obtaining Copies of Proposals: Requesters may obtain a copy of the information collection documents from the GSA Regulatory Secretariat Division, by calling 202-501-4755 or emailing GSARegSec@gsa.gov. Please cite OMB Control No. 3090-0308, Construction-Manager-as-Constructor Contracting, in all correspondence.

Jeffrey A. Koses,
Senior Procurement Executive, Office of Acquisition Policy, Office of Government-wide Policy.

[FR Doc. 2025-14049 Filed 7-24-25; 8:45 am]

BILLING CODE 6820-61-P